DEPARTMENT OF COMMERCE

International Trade Administration

[A-570-964, A-201-838]

Seamless Refined Copper Pipe and Tube From the People's Republic of China and Mexico: Final Results of the Expedited Sunset Reviews of the Antidumping Duty Orders

AGENCY: Enforcement and Compliance, International Trade Administration, Department of Commerce.

SUMMARY: As a result of these expedited sunset reviews, the Department of Commerce (Commerce) finds that revocation of the antidumping duty (AD) orders on seamless refined copper pipe and tube from the People's Republic of China (China) and Mexico would likely lead to continuation or recurrence of dumping at the levels indicated in the “Final Results of Sunset Review” section of this notice.

DATES: Applicable March 3, 2022.

FOR FURTHER INFORMATION CONTACT: Paola Aleman Ordaz, AD/CVD Operations, Office IV, Enforcement and Compliance, International Trade Administration, U.S. Department of Commerce, 1401 Constitution Avenue NW, Washington, DC 20230; telephone: (202) 482-4031.

SUPPLEMENTARY INFORMATION:

Background

On November 1, 2021, Commerce published the notice of initiation of the sunset reviews of the AD Orders ¹ pursuant to section 751(c) of the Tariff Act of 1930, as amended (the Act).² In accordance with 19 CFR 351.218(d)(1)(i) and (ii), Commerce received notices of intent to participate in these sunset reviews from American Copper Tube Coalition (ACTC) and its constituent members ³ (collectively, the domestic interested party), within 15 days after the date of publication of the Initiation Notice.⁴ The domestic interested party claimed interested party status under section 771(9)(C) of the Act.

¹ See Seamless Refined Copper Pipe and Tube from Mexico and the People's Republic of China: Antidumping Duty Orders and Amended Final Determination of Sales at Less Than Fair Value from Mexico, 75 FR 71070 (November 22, 2010) (collectively, AD Orders).

² See Initiation of Five-Year (Sunset) Reviews, 86 FR 60201 (November 1, 2021) (Initiation Notice).

³ The members of the American Copper Tube Coalition are Mueller Copper Tube Products, Inc., Mueller Copper Tube West Co., Mueller Copper Tube Company, Inc., Howell Metal Company, and Linesets, Inc., (collectively, Mueller Group) and Cerro Flow Products, LLC (Cerro).

⁴ See Domestic Interested Party's Letter, “Five-Year (Sunset) Review of Antidumping Duty Order on Seamless Refined Copper Pipe and Tube from China: Notice of Intent to Participate,” dated November 15, 2021; see also Domestic Interested Party's Letter, “Five-Year (Sunset) Review of Antidumping Duty Order on Seamless Refined Copper Pipe and Tube from Mexico: Notice of Intent to Participate,” dated November 15, 2021.

Commerce received adequate substantive responses to the Initiation Notice from the domestic interested party within the 30-day period specified in 19 CFR 351.218(d)(3)(i).⁵ Commerce received no substantive responses from any respondent interested parties. On December 20, 2021, Commerce notified the U.S. International Trade Commission that Commerce did not receive an adequate substantive response from respondent interested parties.⁶ In accordance with section 751(c)(3)(B) of the Act and 19 CFR 351.218(e)(1)(ii)(C)(2), Commerce conducted expedited, i.e., 120-day, sunset reviews of the AD Orders.

⁵ See Domestic Interested Party's Letter, “Seamless Refined Copper Pipe and Tube from China—Substantive Response,” dated December 1, 2021; see also Domestic Interested Party's Letter, “Seamless Refined Copper Pipe and Tube from Mexico: Substantive Response,” dated December 1, 2021.

⁶ See Commerce's Letter, “Sunset Reviews Initiated on November 1, 2021,” dated December 20, 2021.

Scope of the AD Orders

The products subject to the AD Orders are all seamless refined copper pipes and tubes, and are currently classified in the Harmonized Tariff Schedule of the United States (HTSUS) under subheadings: 7411.10.1030 and 7411.10.1090. Products subject to the order may also enter under HTSUS subheadings 7407.10.1500, 7419.80.5050, 7419.99.5050, 8415.90.8065, and 8415.90.8085. The HTSUS numbers are provided for convenience and customs purposes. A full description of the scope of the AD Orders is contained in the Issues and Decision Memorandum.⁷ The written description is dispositive.

⁷ See Memorandum, “Issues and Decision Memorandum for the Expedited Sunset Reviews of the Antidumping Duty Orders on Seamless Refined Copper Pipe and Tube from the People's Republic of China and Mexico,” dated concurrently with, and hereby adopted by, this notice (Issues and Decision Memorandum).

Analysis of Comments Received

All issues raised in this review are addressed in the Issues and Decision Memorandum, including the likelihood of continuation or recurrence of dumping in the event of revocation of the AD Orders and the magnitude of dumping margins likely to prevail if the AD Orders were revoked. A list of topics discussed in the Issues and Decision Memorandum is included as an appendix to this notice. Parties can find a complete discussion of all issues raised in this review and the corresponding recommendations in the Issues and Decision Memorandum, which is on file electronically via Enforcement and Compliance's Antidumping and Countervailing Duty Centralized Electronic Service System (ACCESS). ACCESS is available to registered users at http://access.trade.gov. In addition, a complete version of the Issues and Decision Memorandum can be found at https://access.trade.gov/public/FRNoticesListLayout.aspx.

Final Results of Sunset Review

Pursuant to sections 751(c) and 752(c)(1) and (3) of the Act, Commerce determines that revocation of the AD Orders would be likely to lead to continuation or recurrence of dumping and the magnitude of the margins of dumping likely to prevail would be weighted-average margins up to the following percentages:

Country | Weighted- average margin (percent)
China | 60.85
Mexico | 27.16

Notification Regarding Administrative Protective Orders

This notice serves as a reminder to parties subject to administrative protective order (APO) of their responsibility concerning the disposition of proprietary information disclosed under APO in accordance with 19 CFR 351.305(a). Timely written notification of the destruction of APO materials or conversion to judicial protective order is hereby requested. Failure to comply with the regulations and terms of an APO is a violation which is subject to sanction.

Notification to Interested Parties

Commerce is issuing and publishing these final results and notice in accordance with sections 751(c), and 777(i)(1) of the Act and 19 CFR 351.221(c)(5)(ii).

Dated: February 24, 2022.
Lisa W. Wang,
Assistant Secretary for Enforcement and Compliance.

Appendix

List of Topics Discussed in the Issues and Decision Memorandum

I. Summary

II. Background

III. Scope of the Orders

IV. History of the Orders

V. Legal Framework

VI. Discussion of the Issues

VII. Final Results of Expedited Sunset Reviews

VIII. Recommendation

[FR Doc. 2022-04491 Filed 3-2-22; 8:45 am]

BILLING CODE 3510-DS-P